DEPARTMENT OF JUSTICE

Notice of Lodging of Consent Decree Under the Comprehensive Environmental Response, Compensation and Liability Act (“CERCLA”) for Settlement of Response Costs and Performance of Response Actions at Tongass National Forest Sites

Pursuant to 28 CFR 50.7, notice is hereby given that on May 20, 2004, a Consent Decree United States v. Ketchikan Pulp Company, Docket No. A04-0104 CV (JKS) was lodged with the United States District Court for the District of Alaska.

In this action brought pursuant to section 107 and 113 of the Comprehensive Environmental Response, Compensation, and Liability Act of 1980 (“CERCLA”, 42 U.S.C. 9607 and 9613, the United States is seeking: (1) reimbursement of response costs incurred and to be incurred for actions to clean up hazardous substances at six sites in the Tongass National Forest where Ketchikan Pulp Company (“KPC”) previously conducted logging and associated operations under a long-term timber sale contract (“Contract”) with the United States Department of Agriculture, Forest Service (“Forest Service”); and (2) declaratory relief that KPC will be liable for any future response costs incurred by the United States with respect to those sites. In addition, the United States is seeking, pursuant to AS 46.03.822(a), recovery of damages incurred in connection with the cleanup of petroleum contamination at an additional sixteen sites formerly operated by KPC in the Tongass National Forest.

The Consent Decree requires KPC to complete cleanup work at three sites—East Twelve Mile, Ratz Harbor, and Francis Cove—under CERCLA administrative orders on consent previously issued by the Forest Service and to perform an additional removal action at the Naukati Site. The Decree also requires the Forest Service to undertake operation, maintenance, and monitoring activities selected by the Forest Service in the Thorne Bay Landfills Site Action Memorandum dated February 9, 2004, as supplemented on March 5, 2004, and any additional activities selected in that Action Memorandum to address the seeps containing iron and manganese identified in the Action Memorandum. The parties agreed in the Decree to a 50%-50% allocation of any future response costs incurred at the Thorne Bay Landfills Site as a result of new information or unknown conditions. The Decree includes reciprocal convenants not to sue for response and removal costs pertaining to twenty-three former logging facilities and the Connell Dam Site without payment by either side, subject to a “reopener” for unknown conditions or information which indicate that the response actions taken are not protective of human health and the environment. Finally, the Decree binds KPC's parent, Louisiana-Pacific Corporation, to guarantee performance of KPC's obligations arising out of the rights the United States has reserved under the Decree, including those arising out of unknown conditions or new information through December 31, 2013, or, at the Thorne Bay Landfills Site, through December 31, 2030.

The Department of Justice will receive for a period of thirty (30) days from the date of this publication comments relating to the Consent Decree. Comments should be addressed to the Assistant Attorney General, Environment and Natural Resources Division, United States Department of Justice and sent to 801 B Street, Suite 504, Anchorage, Alaska 99501-3657. Comments should refer to United States v. Ketchikan Pulp Company, D.J. Ref. #90-7-1-1-06974. During the public comment period, the Consent Decree may be examined during business hours at the same address by contacting Lorraine Carter (907-271-5452) or on the following Department of Justice Web site, http://www.usdoj.gov/enrd/open.html. The Consent Decree may also be examined at the Office of Aviation and Engineering Management, United States Department of Agriculture, Juneau, Alaska 99802, by contacting Deputy Director Ken Vaughan (907-586-8789). A copy of the Consent Decree may be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy by mail, please enclose a check in the amount of $8.00 (25 cents per page reproduction cost) payable to the U.S. Treasury. This amount does not include costs for reproduction of any of the seven appendices of the Consent Decree (identified on page 34). If you would like any of the appendices, please identify which one(s) and you will be contacted regarding the additional charge.

William D. Brighton,
Assistant Section Chief, Environmental Enforcement Section, Environment and Natural Resources Division.

[FR Doc. 04-13043 Filed 6-8-04; 8:45 am]

BILLING CODE 4410-15-M